DEPARTMENT OF HOUSING AND URBAN DEVELOPMENT

[Docket No. FR-5601-N-40]

Federal Property Suitable as Facilities To Assist the Homeless

AGENCY: Office of the Assistant Secretary for Community Planning and Development, HUD.

ACTION: Notice.

SUMMARY: This Notice identifies unutilized, underutilized, excess, and surplus Federal property reviewed by HUD for suitability for use to assist the homeless.

FOR FURTHER INFORMATION CONTACT: Juanita Perry, Department of Housing and Urban Development, 451 Seventh Street SW., Room 7266, Washington, DC 20410; telephone (202) 402-3970; TTY number for the hearing- and speech-impaired (202) 708-2565 (these telephone numbers are not toll-free), or call the toll-free Title V information line at 800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to Theresa Ritta, Division of Property Management, Program Support Center, HHS, room 5B-17, 5600 Fishers Lane, Rockville, MD 20857; (301) 443-2265. (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Ann Marie Oliva at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: AIR FORCE: Mr. Robert Moore, Air Force Real Property Agency, 143 Billy Mitchell Blvd., San Antonio, TX 78226, (210) 925-3047; (This is not toll-free numbers).

Dated: October 4, 2012.
Ann Marie Oliva,
Deputy Assistant Secretary for Special Needs, Acting.

TITLE V, FEDERAL SURPLUS PROPERTY PROGRAM FEDERAL REGISTER REPORT FOR 10/12/2012

Suitable/Available Properties

Building

Colorado

2 Buildings

MFH

USAF CO 80840

Landholding Agency: Air Force

Property Number: 18201220001

Status: Unutilized

Directions: 6550 and 6552

Comments: 3,743 sf. for 6550; 578 sf. for 6652; good conditions; housing/garage; asbestos

2 Buildings

MFH

USAF CO 80840

Landholding Agency: Air Force

Property Number: 18201220003

Status: Unutilized

Directions: 64023 and 64024

Comments: 3,560 sf. for each; housing; poor conditions; need repairs; asbestos

Bldg. 64103

MFH

USAF CO 80840

Landholding Agency: Air Force

Property Number: 18201220004

Status: Unutilized

Comments: 4,270 sf.; housing; poor conditions; need repairs; asbestos

8 Buildings

MFH

USAF CO 80840

Landholding Agency: Air Force

Property Number: 18201220005

Status: Unutilized

Directions: 66041, 66054, 67062, 67072, 67073, 67532, 67542, 67554

Comments: 3,938 sf. for each; housing; poor conditions; need repairs; asbestos

3 Buildings

MFH

USAF CO 80840

Landholding Agency: Air Force

Property Number: 18201220006

Status: Unutilized

Directions: 47010, 47011, 47012

Comments: 3,324 sf. for each; housing; poor conditions; need repairs; asbestos

37 Buildings

MFH

USAF CO 80840

Landholding Agency: Air Force

Property Number: 18201220007

Status: Unutilized

Directions: 66545, 66546, 66593, 66594, 66042, 66043, 66050, 66051, 66062, 67000, 67012, 67020, 67021, 67032, 67040, 67041, 67065, 67066, 67070, 67071, 67500, 67501, 67513, 67520, 67521, 67533, 67534, 67545, 67546, 67550, 67551, 67573, 67574, 67582, 67593, 67594

Comments: 3,348 sf. for each; housing; poor conditions; need repairs; asbestos

24 Buildings

MFH

USAF CO 80840

Landholding Agency: Air Force

Property Number: 18201220008

Status: Underutilized

Directions: 66552,66581, 66040, 66052, 66053, 66061, 67004, 67024,67031, 67063, 67064, 67074, 67504, 67510, 67524, 67530, 67543, 67544, 67552, 67553, 67561, 67570, 67581, 67590

Comments: 3,820 sf. for each; housing; poor conditions; need repairs; asbestos

24 Buildings

MFH

USAF CO 80840

Landholding Agency: Air Force

Property Number: 18201220017

Status: Unutilized

Directions: 47103, 47104, 66060, 67002, 67003, 67010, 67022, 67023, 67042, 67043, 67051, 67052, 67053, 67511, 67512, 67522, 67523, 67531, 67560, 67571, 67572, 67580, 67591, 67592

Comments: 3,810 sf. for each; housing; poor conditions; need repairs; asbestos possible

12 Buildings

MFH

USAF CO 80840

Landholding Agency: Air Force

Property Number: 18201220018

Status: Unutilized

Directions: 66600, 66601, 66055, 67060, 67061, 67540, 67541, 67555, 67556, 67600, 67601, 66056

Comments: 3,644 sf. for each; housing; poor conditions; need repairs; asbestos identified

Florida

Facility 9550

Eglin AFB

Eglin FL 32542

Landholding Agency: Air Force

Property Number: 18201230056

Status: Unutilized

Comments: 360 sf.; range support bldg.; vacant nine (9) mons.; poor conditions; asbestos; contact Range Control for prior approval ea. time to access facility

Georgia

2 Buildings

Moody AFB

Moody AFB GA 31699

Landholding Agency: Air Force

Property Number: 18201220025

Status: Unutilized

Directions: 574, 740

Comments: 793 sf. for b-574; 92 sf. for b-740; usage varies; properties located in secured area; need military escort every time transferee needs to access buildings

Idaho

26 Buildings

Mountain Home AFB

Mountain Home ID 83648

Landholding Agency: Air Force

Property Number: 18201230041

Status: Underutilized

Directions: 45000, 45004, 45007, 45008, 45011, 45012, 45015, 45019, 45022, 45023, 45027, 45031, 45035, 45036, 45039, 45040, 45043, 45103, 45107, 45111, 45112, 45115, 45116, 45119, 45120, 45123

Comments: Off-site removal only; 780 sf. for ea. parking; minor repairs/renovations needed; restricted area; contact AF for info. on accessibility/removals reqs.

74 Buildings

Mountain Home AFB

Mountain Home ID 83648

Landholding Agency: Air Force

Property Number: 18201230042

Status: Underutilized

Directions: 45127, 45130, 45131, 45134, 45135, 45139, 45143, 45146, 45147, 45152, 45156, 45159, 45160, 45163, 45164, 46168, 45172, 45203, 45204, 45207, 45208, 45212, 45216, 45217, 45220, 45221, 45225, 45228, 45229, 45233, 45237, 45238, 45241, 45242, 45245, 45249, 45253, 45254, 45257, 45261, 45264, 45265, 45268, 45272, 45272, 45305, 45308, 45309, 45312, 45313, 45317, 45321, 45322, 45325, 45329, 45332, 45333, 45337, 45341, 45344, 45345, 45348, 45349, 45353, 45357, 45358, 45361, 45365, 45366, 45367, 45372, 45373, 45376, 45377

Comments: Off-site removal only; 780 sf. for ea. parking; minor repairs/renovations needed; restricted area; contact AF for info. on accessibility/removals reqs.

Illinois

Bldg. 500

Plum Hill MARS

Belleville IL 62221

Landholding Agency: Air Force

Property Number: 18201220035

Status: Unutilized

Comments: 3,519 sf.; communication facility; no utilities; possible ground contamination; need repairs and remediation

Bldg. 500

Plum Hill MARS

Belleville IL 62221

Landholding Agency: Air Force

Property Number: 18201220036

Status: Unutilized

Comments: 3,519 sf.; communication facility; no utilities; possible contamination; needs repairs & remediation

Michigan

3 Buildings

Selfridge ANGB

Selfridge MI 48045

Landholding Agency: Air Force

Property Number: 18201220020

Status: Unutilized

Directions: 326,780,710

Comments: Off-site removal only; sf varies; office/school/barracks; air conditions; need repairs

New Jersey

4 Buildings

JBMDL

Trenton NJ 08641

Landholding Agency: Air Force

Property Number: 18201220031

Status: Unutilized

Directions: 2606, 2612, 2613, 2621

Comments: Off-site removal only; sf. varies btw. 26,671-27,043 sf.; secured area; need prior approval from Security Police

2 Buildings

Joint Base McGuire-Dix-Lakehurst

Ft. Dix NJ 08640

Landholding Agency: Air Force

Property Number: 18201230052

Status: Unutilized

Directions: 5250-Hospital (384,057sf.) & 5251-Walson A/C Plant (2,170 sf.)

Comments: Off-site removal only; sf varies; hospital & a/c plant; air to poor conditions; asbestos; secured area; contact AF Real Property Office to gain access/removal

New Mexico

Bldg. 310

103 West Street

Cannon NM 88103

Landholding Agency: Air Force

Property Number: 18201220041

Status: Underutilized

Comments: Off-site removal only; 20,000 sf.; maintenance shop; secured area; need prior approval to access property

Ohio

Facility 80045

1050 Forrer Blvd.

Kettering OH 45429

Landholding Agency: Air Force

Property Number: 18201230061

Status: Underutilized

Comments: 101,153 sf.;admin./lab; structurally sound

Texas

6 Buildings

Medina Trng. Annex

Lackland AFB TX

Landholding Agency: Air Force

Property Number: 18201220038

Status: Unutilized

Directions: 587, 595, 596, 597, 598, 599

Comments: Off-site removal only; 2,418 sf. for each; igloos; secured area; prior approval needed to access; deteriorated conditions; needs extensive repairs

Unsuitable Properties

Building

Colorado

2 Buildings

Tower/Bullseye Airfield

Calhan CO 80808

Landholding Agency: Air Force

Property Number: 18201220002

Status: Underutilized

Directions: 9603 and 9604

Comments: Nat'l security concerns; public access denied and no alternative method to gain access w/out comprising nat'l security

Reasons: Secured Area

Florida

Facilities 28407 & 28411

1656 Lighthouse Rd.

Cape Canaveral FL 32925

Landholding Agency: Air Force

Property Number: 18201220009

Status: Excess

Comments: Nat'l security concerns; public access denied & no alternative method to gain access w/out comprising nat'l security

Reasons: Secured Area

2 Buildings

Hurlburt Field

Hurlburt Field FL 32544

Landholding Agency: Air Force

Property Number: 18201220010

Status: Underutilized

Directions: 90318 and 90319

Comments: Nat'l security concerns; public access denied & no alternative method to gain access w/out comprising nat'l security

Reasons: Secured Area

10 Buildings

Cape Canaveral

Cape Canaveral FL 32925

Landholding Agency: Air Force

Property Number: 18201220039

Status: Excess

Directions: 28411, 28415, 44500, 49928, 28401, 24445, 24404, 24403, 1715, 70540

Comments: Nat'l security concerns; public access denied & no alternative method to gain access w/out comprising nat'l security

Reasons: Secured Area

Bldg. 297

8005 Hillsborough Loop Dr.

MacDill FL 33621

Landholding Agency: Air Force

Property Number: 18201230049

Status: Underutilized

Comments: Located w/in secured area; public access denied & no alternative method to gain access w/out compromising nat'l security

Reasons: Secured Area

9 Buildings

MacDill AFB

MacDill FL 33621

Landholding Agency: Air Force

Property Number: 18201230050

Status: Unutilized

Directions: 23, 189, 821, 828, 829, 1075, 1083, 1084

Comments: Located w/in restricted active military installation; public access denied & no alternative method to gain access w/out compromising nat'l security

Reasons: Secured Area

8 Buildings

Eglin AFB

Eglin FL 32542

Landholding Agency: Air Force

Property Number: 18201230057

Status: Underutilized

Directions: 223, 255, 411, 584, 1278, 1284, 1289, 4023

Comments: Located in restricted controlled gov't installation; public access denied & no alternative method to gain access w/out compromising nat'l security

Reasons: Secured Area

2 Buildings

Eglin AFB

Eglin FL 32542

Landholding Agency: Air Force

Property Number: 18201230058

Status: Unutilized

Directions: 586, 9267

Comments: Located un restricted controlled gov't installation; public access denied & no alternative method to gain access w/out compromising nat'l security

Reasons: Secured Area

Illinois

3 Buildings

Scott AFB

Scott AFB IL 62225

Landholding Agency: Air Force

Property Number: 18201220034

Status: Unutilized

Directions: 1984, 1985, 530

Comments: High security active duty installation; nat'l security concerns; public access denied & no alternative method to gain access w/out comprising nat'l security

Reasons: Secured Area

Indiana

Facilities 99 &1371

Stor Igloos

Terre Haute IN 47803

Landholding Agency: Air Force

Property Number: 18201220019

Status: Unutilized

Comments: Nat'l security concerns; public access denied & no alternative method to gain access w/out comprising nat'l security

Reasons: Secured Area

Kansas

7 Buildings

McConnell AFB

McConnell KS 67210

Landholding Agency: Air Force

Property Number: 18201220033

Status: Underutilized

Directions: 408, 415, 424, 425, 696, 750, 1120

Comments: Nat'l security concerns; public access denied & no alternative method to gain access w/out comprising nat'l security

Reasons: Secured Area

Louisiana

3 Buildings

Barksdale AFB

Barksdale AFB LA 71110

Landholding Agency: Air Force

Property Number: 18201220032

Status: Unutilized

Directions: 5724, 7318, 7136

Comments: Nat'l security concerns; public access denied & no alternative method to gain access w/out comprising nat'l security

Reasons: Secured Area

Maryland

2 Buildings

Martin State Airport

Baltimore MD 21220

Landholding Agency: Air Force

Property Number: 18201220022

Status: Excess

Directions: 1120 & 1121

Comments: Nat'l security concerns; public access denied & no alternative method to gain access w/out comprising nat'l security

Reasons: Secured Area

Massachusetts

129 Water Tank

Reilly St.

OTIS ANGB MA 02542

Landholding Agency: Air Force

Property Number: 18201230045

Status: Excess

Comments: Located w/in secured area; public access denied & no alternative method to gain access w/out compromising nat'l security

Reasons: Secured Area

137 Pump House

Reilly House

OTIS ANGB MA

Landholding Agency: Air Force

Property Number: 18201230048

Status: Excess

Comments: Located w/in secured area; public access denied & no alternative method to gain access w/out compromising nat'l security

Reasons: Secured Area

Michigan

3 Buildings

Alpena Co. Reg. Apt.

Alpena MI 49707

Landholding Agency: Air Force

Property Number: 18201230047

Status: Underutilized

Directions: 112, 116, 120

Comments: Located w/in secured area; public access denied & no alternative method to gain access w/out compromising nat'l security

Reasons: Secured Area

Mississippi

4 Buildings

Kessler AFB

Kessler AFB MS 39534

Landholding Agency: Air Force

Property Number: 18201220037

Status: Underutilized

Directions: 4813, 4815, 4906, 4910

Comments: Nat'l security concerns; public access denied & no alternative method to gain access w/out comprising nat'l security

Reasons: Secured Area

Bldg. 21005

6225 M St.

Meridian MS 39307

Landholding Agency: Air Force

Property Number: 18201230046

Status: Unutilized

Comments: Access limited to military personnel only; public access denied & no alternative method to gain access w/out compromising nat'l security

Reasons: Secured Area

Building 630

713 Lockhart

Columbus MS 39710

Landholding Agency: Air Force

Property Number: 18201230060

Status: Underutilized

Comments: Public access denied & no alternative method to gain access w/out compromising nat'l security

Reasons: Secured Area

Montana

8 Buildings

JKSE

Great Falls MT 59404

Landholding Agency: Air Force

Property Number: 18201230044

Status: Underutilized

Directions: 307, 47,32,45,46,48,26,22

Comments: Public access denied & no alternative method to gain access w/out compromising nat'l security

Reasons: Secured Area

Nebraska

2 Buildings

Offutt AFB

Offutt NE 68113

Landholding Agency: Air Force

Property Number: 18201220026

Status: Excess

Directions: 443, 620

Comments: Nat'l security concerns; public access denied & no alternative method to gain access w/out comprising nat'l security

Reasons: Secured Area

New Hampshire

PEASE ANGB

302 Newmarket St.

Newington NH 03803

Landholding Agency: Air Force

Property Number: 18201230043

Status: Unutilized

Comments: Public access denied & no alternative method to gain access w/out compromising nat'l security

Reasons: Secured Area

New Jersey

Building 2602

Joint Base McGuire-Dix Lakehurst

Trenton NJ 08641

Landholding Agency: Air Force

Property Number: 18201220044

Status: Unutilized

Comments: Nat'l security concerns; approval for the public to gain access w/out comprising nat'l security is not feasible; will promote a breach of security

Reasons: Secured Area

4 Buildings

Joint Base McGuire-Dix-Lakehurst

Ft. Dix NJ 08640

Landholding Agency: Air Force

Property Number: 18201230051

Status: Unutilized

Directions: 9723, 9728, 9411, 9403

Comments: Located w/in secured area where public access denied & no alternative method to gain access w/out compromising nat'l security

Reasons: Secured Area

Bldg. 9415

9410 Old Shore Rd.

Ft. Dix NJ 08640

Landholding Agency: Air Force

Property Number: 18201230053

Status: Unutilized

Comments: Located w/in restricted area where public access denied & no alternative method to gain access w/out compromising nat'l security

Reasons: Secured Area

Traffic Check House

3573 Lancaster Rd.

Trenton NJ 08641

Landholding Agency: Air Force

Property Number: 18201230054

Status: Unutilized

Comments: Located w/in secured post; public access denied & no alternative method to gain access w/out compromising nat'l security

Reasons: Secured Area

New Mexico

3 Buildings

Kirtland AFB

Kirtland AFB NM 87117

Landholding Agency: Air Force

Property Number: 18201220011

Status: Underutilized

Directions: 253, 255, 638

Comments: Nat'l security concerns; public access denied & no alternative method to gain access w/out comprising nat'l security

Reasons: Secured Area

Bldg. 30116

5801 Manzano St SE

Kirtland AFB NM 87117

Landholding Agency: Air Force

Property Number: 18201220012

Status: Underutilized

Comments: Nat'l security concerns; public access denied & no alternative method to gain access w/out comprising nat'l security

Reasons: Secured Area

6 Buildings

Kirtland AFB

Kirtland AFB NM 87117

Landholding Agency: Air Force

Property Number: 18201220013

Status: Unutilized

Directions: 37514, 37511, 37509, 37503, 30144, 30108

Comments: Nat'l security concerns; public access denied & no alternative method to gain access w/out comprising nat'l security

Reasons: Secured Area

Bldgs. 573, 855, 859

Holloman AFB

Holloman AFB NM 88330

Landholding Agency: Air Force

Property Number: 18201220023

Status: Unutilized

Comments: Nat'l security concerns; public access denied & no alternative method to gain access w/out comprising nat'l security

Reasons: Secured Area

5 Buildings

Holloman AFB

Holloman AFB NM 88330

Landholding Agency: Air Force

Property Number: 18201220030

Status: Unutilized

Directions: 19, 838, 1197, 847, 1198

Comments: Nat'l security concerns; public access denied due to anti-terrorism & no alternative method to gain access w/out comprising nat'l security

Reasons: Secured Area

South Carolina

11 Buildings

Shaw AFB

Sumter SC 29152

Landholding Agency: Air Force

Property Number: 18201220042

Status: Unutilized

Directions: 1851, 1850, 1852, 1856, 1858, B413, B420, B1713, B1049, B702, B1128

Comments: Facilities are located on a secured military installation; no public access & no alternative method to gain access w/out comprising nat'l security

Reasons: Secured Area

Bldg. 211

110 Graves Ave.

Joint Base Charleston SC 29404

Landholding Agency: Air Force

Property Number: 18201230055

Status: Unutilized

Comments: Located in restricted area; public access denied & no alternative method to gain access w/out compromising nat'l security

Reasons: Secured Area

Tennessee

Bldg. 708

Nashville IAP

Nashville TN 37217

Landholding Agency: Air Force

Property Number: 18201230059

Status: Underutilized

Comments: Authorized military personnel only; restricted area; public access denied & no alternative method to gain access w/out compromising nat'l security

Reasons: Secured Area

Texas

11 Buildings

Ft. Sam Houston

San Antonio TX 78234

Landholding Agency: Air Force

Property Number: 18201220014

Status: Unutilized

Directions: 1149, 1151, 1152, 1153, 1154, 1158, 1159, 1160, 1161, 1162, 1163

Comments: Nat'l security concerns; public access denied & no alternative method to gain access w/out comprising nat'l security

Reasons: Secured Area

12 Buildings

Ft. Sam Houston

San Antonio TX 78234

Landholding Agency: Air Force

Property Number: 18201220015

Status: Unutilized

Directions: 2410, 2411, 2412, 2425, 2427, 2429, 2430, 2432, 3551, 3552, 3553, 3557

Comments: Nat'l security concerns; public access denied & no alternative method to gain access w/out comprising nat'l security

Reasons: Secured Area

Bldg. 435

Goodfellow AFB

Goodfellow AFB TX 76908

Landholding Agency: Air Force

Property Number: 18201220016

Status: Excess

Comments: Nat'l security concerns; public access denied & no alternative method to gain access w/out comprising nat'l security

Reasons: Secured Area

4 Buildings

Storage Munitions Cubicle

Lackland AFB TX

Landholding Agency: Air Force

Property Number: 18201220028

Status: Unutilized

Directions: 402, 403, 404, 585

Comments: Nat'l security concerns; public access denied & no alternative method to gain access w/out comprising nat'l security

Reasons: Secured Area

Bldg. 1092

Sheppard AFB

Sheppard AFB TX 76311

Landholding Agency: Air Force

Property Number: 18201220029

Status: Unutilized

Comments: Nat'l security concerns; public access denied & no alternative method to gain access w/out comprising nat'l security

Reasons: Secured Area

15 Buildings

Laughlin AFB

Del Rio TX 78843

Landholding Agency: Air Force

Property Number: 18201220040

Status: Unutilized

Directions: 47, 64, 113, 125, 136, 257, 284, 358, 360, 401, 510, 511, 2024, 8081, 9007

Comments: Nat'l security concerns; public access denied & no alternative method to gain access w/out comprising nat'l security

Reasons: Secured Area

6 Buildings

BE Stor Shed

Randolph AFB TX

Landholding Agency: Air Force

Property Number: 18201220043

Status: Underutilized

Directions: B1281, B1282, B1284, B1285, B1286, B1287

Comments: Nat'l security concerns; public access denied & no alternative method to gain access w/out comprising nat'l security

Reasons: Secured Area

Virginia

Bldg. 1994

Eagle Ave

Hampton VA 23665

Landholding Agency: Air Force

Property Number: 18201220024

Status: Underutilized

Comments: Nat'l security concerns; public access denied & no alternative method to gain access w/out comprising nat'l security

Reasons: Secured Area

9 Buildings

Langley AFB

Langley AFB VA 23665

Landholding Agency: Air Force

Property Number: 18201220027

Status: Underutilized

Directions: 1092, 1093, 1094, 1095, 1096, 1097, 1098, 750, 51

Comments: Nat'l security concerns; public access denied & no alternative method to gain access w/out comprising nat'l security

Reasons: Secured Area

Wyoming

Bldg. 945

7505 Booker Rd.

Cheyenne WY

Landholding Agency: Air Force

Property Number: 18201230062

Status: Unutilized

Comments: Located in a secured area; public access denied & no alternative method to gain access w/out compromising nat'l security

Reasons: Secured Area

[FR Doc. 2012-24921 Filed 10-11-12; 8:45 am]

BILLING CODE 4210-67-P